DEPARTMENT OF THE INTERIOR

National Park Service

Notice of Inventory Completion: Phoebe A. Hearst Museum of Anthropology, University of California, Berkeley, Berkeley, CA

AGENCY: National Park Service, Interior.

ACTION: Notice.

Notice is here given in accordance with the Native American Graves Protection and Repatriation Act (NAGPRA), 25 U.S.C. 3003, of the completion of an inventory of human remains and associated funerary objects in the possession of the Phoebe A. Hearst Museum of Anthropology, University of California, Berkeley, Berkeley, CA. The human remains and associated funerary objects were removed from sites WA-Klickitat-NL-3, WA-Klickitat-NL-4, and WA-Klickitat-NL-5, all located 1 mile north of Spedis, Klickitat County, WA.

This notice is published as part of the National Park Service’s administrative responsibilities under NAGPRA, 25 U.S.C. 3003 (d)(3). The determinations within this notice are the sole responsibility of the museum, institution, or Federal agency that has control of the Native American human remains and associated funerary objects. The National Park Service is not responsible for the determinations within this notice.

An assessment of the human remains, and catalog records and associated documents relevant to the human remains, was made by Phoebe A. Hearst Museum of Anthropology professional staff in consultation with representatives of the Confederated Tribes and Bands of the Yakama Nation, Washington.

In 1924, human remains representing at least two individuals were removed from a cave at site WA-Klickitat-NL-3, 1 mile north of Spedis, WA, by W.D. Strong and W.E. Schenck. The human remains were donated to the Phoebe A. Hearst Museum of Anthropology in the same year by H.J. Biddle. No known individuals were identified. The nine associated funerary objects are eight textile fragments and one nonhuman bone awl.

In 1924, human remains representing at least five individuals were removed from a cave at site WA-Klickitat-NL-4, 1 mile north of Spedis, WA, by W.D. Stong and W.E. Schenck. The human remains were donated to the Phoebe A. Hearst Museum of Anthropology in the same year by H.J. Biddle. No known individuals were identified. No associated funerary objects are present.

In 1924, human remains representing at least two individuals were removed from a cave at site WA-Klickitat-NL-5, 1 mile north of Spedis, WA, by W.D. Stong and W.E. Schenck. The human remains were donated to the Phoebe A. Hearst Museum of Anthropology in the same year by H.J. Biddle. No known individuals were identified. No associated funerary objects are present.

The circumstances of burial, including interment in a cave and burial characteristics, identify the human remains as Native American. The presence of associated funerary objects of European origin dates two of the burials to a post-European contact time period. The Indian Claims Commission has determined that the geographical location of the burials was included in the aboriginal territory of the Confederated Tribes and Bands of the Yakama Nation, Washington at the time of European contact.

Officials of the Phoebe A. Hearst Museum of Anthropology have determined that, pursuant to 25 U.S.C. 3001 (9-10), the human remains described above represent the physical remains of at least nine individuals of Native American ancestry. Officials of the Phoebe A. Hearst Museum of Anthropology also have determined that, pursuant to 25 U.S.C. 3001 (3)(A), the nine objects described above are reasonably believed to have been placed with or near individual human remains at the time of death or later as part of the death rite or ceremony. Lastly, officials of the Phoebe A. Hearst Museum of Anthropology have determined that, pursuant to 25 U.S.C. 3001 (2), there is a relationship of shared group identity that can be reasonably traced between the Native American human remains and associated funerary objects and the Confederated Tribes and Bands of the Yakama Nation, Washington.

Representatives of any other Indian tribe that believes itself to be culturally affiliated with the human remains and associated funerary objects should contact C. Richard Hitchcock, NAGPRA Coordinator, Phoebe A. Hearst Museum of Anthropology, University of California, Berkeley, Berkeley, CA 94720, telephone (510) 642-6096, before August 8, 2003. Repatriation of the human remains and associated funerary objects to the Confederated Tribes and Bands of the Yakama Nation, Washington may proceed after that date if no additional claimants come forward.

The Phoebe A. Hearst Museum of Anthropology is responsible for notifying the Confederated Tribes and Bands of the Yakama Nation, Washington that this notice has been published.

Dated: June 11, 2003.
John Robbins,
Assistant Director, Cultural Resources.

[FR Doc. 03-17272 Filed 7-8-01; 8:45 am]

BILLING CODE 4310-70-S